ENVIRONMENTAL PROTECTION AGENCY

[FRL-8160-1]

Proposed Consent Decree, Clean Air Act Citizen Suit

AGENCY: Environmental Protection Agency (EPA).

ACTION: Notice of proposed consent decree; request for public comment.

SUMMARY: In accordance with section 113(g) of the Clean Air Act, as amended (“Act”), 42 U.S.C. 7413(g), notice is hereby given of a proposed consent decree, to address a lawsuit filed by Our Children's Earth Foundation and Sierra Club (collectively, “plaintiffs”) in the U.S. District Court Northern District of California—Oakland Division: Our Children's Earth Foundation, et al. v. EPA, No. C 0505184 (N.D. CA). On December 14, 2005, plaintiffs filed a complaint alleging that EPA failed to perform a non-discretionary duty to review and, if necessary, revise the standards for emissions of hazardous air pollutants for petroleum refineries as required by section 112(d)(6) of the Clean Air Act (“CAA”), 42 U.S.C. 7412(d)(6). Under the terms of the proposed consent decree, within 12 months, EPA must make a proposed determination whether or not to revise the standards for petroleum refineries, and within 24 months, EPA must make a final determination whether or not to revise the standards for petroleum refineries.

DATES: Written comments on the proposed consent decree must be received by May 19, 2006.

ADDRESSES: Submit your comments, identified by Docket ID number EPA-HQ-OGC-2006-0346, online at http://www.regulations.gov (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: Apple Chapman, Air and Radiation Law Office (2344A), Office of General Counsel, U.S. Environmental Protection Agency, 1200 Pennsylvania Ave., NW., Washington, DC 20460; telephone: (202) 564-5666; fax number (202) 564-5603; e-mail address: chapman.apple@epa.gov.

SUPPLEMENTARY INFORMATION:

I. Additional Information About the Proposed Consent Decree

The CAA section 112(d)(6) requires EPA to review and revise as necessary each emission standard for hazardous air pollutants every 8 years. In 1995, EPA promulgated emission standards for petroleum refineries at 40 CFR part 63, subpart CC. Plaintiffs filed a complaint alleging that EPA failed to perform a non-discretionary duty to review and, if necessary, revise the standards for emissions of hazardous air pollutants for petroleum refineries as required by section 112(d)(6) of the Clean Air Act, 42 U.S.C. 7412(d)(6). Under the terms of the proposed consent decree, within 12 months of entry of this consent decree, EPA shall sign and submit for publication in the Federal Register a notice of proposed revisions to the standards for petroleum refineries in 40 CFR part 63, subpart CC pursuant to 42 U.S.C. 7412(d)(6) or a notice of proposed determination that no revisions are necessary. Within 24 months of entry of this consent decree EPA shall sign and submit for publication in the Federal Register a notice of final revisions to the standards for petroleum refineries in 40 CFR part 63, subpart CC pursuant to 42 U.S.C. 7412(d)(6) or a notice of final determination that no revisions are necessary.

For a period of thirty (30) days following the date of publication of this notice, the Agency will receive written comments relating to the proposed consent decree from persons who were not named as parties or intervenors to the litigation in question. EPA or the Department of Justice may withdraw or withhold consent to the proposed consent decree if the comments disclose facts or considerations that indicate that such consent is inappropriate, improper, inadequate, or inconsistent with the requirements of the Act. Unless EPA or the Department of Justice determines, based on any comment which may be submitted, that consent to the consent decree should be withdrawn, the terms of the decree will be affirmed.

II. Additional Information About Commenting on the Proposed Settlement

A. How Can I Get A Copy of the Consent Decree?

Direct your comments to the official public docket for this action under Docket ID No. EPA-HQ-OGC-2006-0346 which contains a copy of the settlement. The official public docket is available for public viewing at the Office of Environmental Information (OEI) Docket in the EPA Docket Center, EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through http://www.regulations.gov. You may use the http://www.regulations.gov to submit or view public comments, access the index listing of the contents of the official public docket, and to access those documents in the public docket that are available electronically. Once in the system, select “search,” then key in the appropriate docket identification number.

It is important to note that EPA's policy is that public comments, whether submitted electronically or in paper, will be made available for public viewing online at http://www.regulations.gov without change, unless the comment contains copyrighted material, CBI, or other information whose disclosure is restricted by statute. Information claimed as CBI and other information whose disclosure is restricted by statute is not included in the official public docket or in the electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Comments?

You may submit comments as provided in the ADDRESSES section. Please ensure that your comments are submitted within the specified comment period. Comments received after the close of the comment period will be marked “late.” EPA is not required to consider these late comments.

If you submit an electronic comment, EPA recommends that you include your name, mailing address, and an e-mail address or other contact information in the body of your comment and with any disk or CD ROM you submit. This ensures that you can be identified as the submitter of the comment and allows EPA to contact you in case EPA cannot read your comment due to technical difficulties or needs further information on the substance of your comment. Any identifying or contact information provided in the body of a comment will be included as part of the comment that is placed in the official public docket, and made available in EPA's electronic public docket. If EPA cannot read your comment due to technical difficulties and cannot contact you for clarification, EPA may not be able to consider your comment.

Use of the http://www.regulations.gov Web site to submit comments to EPA electronically is EPA's preferred method for receiving comments. The electronic public docket system is an “anonymous access” system, which means EPA will not know your identity, e-mail address, or other contact information unless you provide it in the body of your comment. In contrast to EPA's electronic public docket, EPA's electronic mail (e-mail) system is not an “anonymous access” system. If you send an e-mail comment directly to the Docket without going through http://www.regulations.gov, your e-mail address is automatically captured and included as part of the comment that is placed in the official public docket, and made available in EPA's electronic public docket.

Dated: April 13, 2006.
Richard B. Ossias,
Associate General Counsel.

[FR Doc. E6-5872 Filed 4-18-06; 8:45 am]

BILLING CODE 6560-50-P